DEPARTMENT OF TRANSPORTATION

Federal Highway Administration

Working Group on Covered Resources

AGENCY: Federal Highway Administration (FHWA), U.S. Department of Transportation (DOT).

ACTION: Notice; solicitation of nominations for membership.

SUMMARY: The Department solicits nominations for membership to serve on the Working Group on Covered Resources (Working Group), which is intended to conduct a study and submit a report to the Secretary of Transportation on access to covered resources (e.g., sand, stone, and gravel) in Federal transportation infrastructure projects.

DATES: The deadline for nominations for Working Group members must be received on or before October 2, 2025.

FOR FURTHER INFORMATION CONTACT: H. Thomas Yu, Designated Federal Officer, Working Group on Covered Resources, Federal Highway Administration, Office of Infrastructure, 1200 New Jersey Avenue SE, Washington, DC 20590, tom.yu@dot.gov.

SUPPLEMENTARY INFORMATION: The Working Group on Covered Resources was established by the Secretary on October 5, 2023 in accordance with section 11526 of the Infrastructure Investment and Jobs Act (IIJA) (Pub. L. 117-58). It operates in accordance with the Federal Advisory Committee Act, 5 United States Code (U.S.C.) ch. 10. The purpose of the Working Group is to conduct a study on access to covered resources for infrastructure projects.

In particular, the Working Group will analyze the following: (1) the use of covered resources in transportation projects funded with Federal dollars; (2) how the proximity of covered resources to such projects affects the cost and environmental impact of those projects; (3) whether and how State, Tribal, and local transportation and planning agencies consider covered resources when developing transportation projects; and (4) any challenges for transportation project sponsors regarding access and proximity to covered resources per section 11526(d) of IIJA. The Working Group shall submit a report to the Secretary of Transportation that includes the findings of its study and any recommendations.

The Working Group will terminate 180 days after the date on which the Secretary receives the Working Group's report. The Working Group is expected to meet at least four times each year, or more frequently as is determined necessary by the DFO in coordination with the chairperson. Unless otherwise required by law or approved by the Secretary, all meetings will be held virtually.

In this notice, the Department is soliciting nominations for membership to the Working Group. The Working Group shall report to the Secretary of Transportation and comprises up to 15 members, including not less than one representative from each of the following, in accordance with section 11526(c) of IIJA:

(1) State departments of transportation;

(2) State agencies associated with covered resources protection;

(3) State planning and geologic survey and mapping agencies;

(4) Commercial motor vehicle operators, including small business operators and operators who transport covered resources;

(5) Covered resources producers;

(6) Construction contractors;

(7) Labor organizations;

(8) Metropolitan planning organizations and regional planning organizations;

(9) Indian Tribes, including Tribal elected leadership or Tribal transportation officials; and

(10) Any other stakeholders that the Secretary determines appropriate.

Members are appointed by the Secretary. Members may continue to serve until their replacement has been appointed. Members will serve 2-year terms but may be reappointed. Past members of the Working Group are welcome to apply. The Department is interested in ensuring membership is balanced fairly in terms of the points of view represented and the functions to be performed by the Working Group.

Process and Deadline for Submitting Nominations: Qualified individuals can self-nominate or be nominated by any individual or organization. To be considered for the Working Group on Covered Materials, nominators should submit the following information:

(1) Name, title, and relevant contact information (including phone, fax, and email address) of the individual requesting consideration;

(2) A letter of support from a company, union, trade association, academic, or nonprofit organization on letterhead containing a brief description why the nominee should be considered for membership;

(3) Short biography of nominee, including professional and academic credentials;

(4) An affirmative statement that the nominee meets all Working Group eligibility requirements;

(5) For nominees seeking to serve in their individual capacity (and not seeking appointment to represent the interests of a nongovernmental entity, a recognizable group of persons such as an industry sector or labor union, or State or local governments), an affirmative statement that the nominee is not a federally registered lobbyist, and that the nominee understands that if appointed, the nominee will not be allowed to continue to serve as a Working Group member if the nominee becomes a federally registered lobbyist;

(6) For nominees seeking to serve as chairperson, an affirmative statement from the nominee of their willingness and ability to serve as the chairperson for the Working Group, which will require additional time commitment beyond simple membership.

Please do not send company, trade association, or organization brochures or any other information. Materials submitted should total two pages or less, not including any letter(s) of support. Should more information be needed, DOT staff will contact the nominee, obtain information from the nominee's past affiliations, or obtain information from publicly available sources, such as the internet.

A selection team will make recommendations regarding membership to the Secretary based on evaluation criteria including: (1) professional or academic expertise, experience, and knowledge; (2) stakeholder representation; and (3) skills working on committees and advisory panels. A list of recommended candidates to the Secretary for review and selection of Working Group members.

Nominations must be received on or before October 2, 2025 via email to H. Thomas Yu, tom.yu@dot.gov. Nominees selected for appointment to the Working Group will be notified by return email and by a letter of appointment.

Gloria M. Shepherd,
Executive Director, Federal Highway Administration.

[FR Doc. 2025-16743 Filed 8-29-25; 8:45 am]

BILLING CODE 4910-22-P